DEPARTMENT OF HOMELAND SECURITY

U.S. Citizenship and Immigration Services

[CIS No. 2712-22; DHS Docket No. USCIS-2014-004]

RIN 1615-ZB79

Extension and Redesignation of South Sudan for Temporary Protected Status

AGENCY: U.S. Citizenship and Immigration Services (USCIS), Department of Homeland Security (DHS).

ACTION: Notice.

SUMMARY: Through this notice, the Department of Homeland Security (DHS) announces that the Secretary of Homeland Security (Secretary) is extending the designation of South Sudan for Temporary Protected Status (TPS) for 18 months, from May 3, 2022, through November 3, 2023, and redesignating South Sudan for 18 months, effective May 3, 2022, through November 3, 2023. The extension allows currently eligible TPS beneficiaries to retain TPS through November 3, 2023, so long as they otherwise continue to meet the eligibility requirements for TPS. The redesignation of South Sudan allows additional individuals who have been continuously residing in the United States since March 1, 2022, to obtain TPS, if otherwise eligible.

DATES: Extension of Designation of South Sudan for TPS: The 18-month extension of the TPS designation of South Sudan is effective May 3, 2022, and will remain in effect through November 3, 2023. The 60-day re-registration period for existing beneficiaries runs from March 3, 2022, through May 2, 2022. (Note: It is important for re-registrants to timely re-register during this 60-day period and not to wait until their Employment Authorization Documents (EADs) expire, which could result in their having gaps in their employment authorization documentation.)

Redesignation of South Sudan for TPS: The 18-month redesignation of South Sudan for TPS is effective May 3, 2022, and will remain in effect through November 3, 2023. The initial registration period for new applicants under the South Sudan TPS redesignation begins on March 3, 2022, and will remain in effect through November 3, 2023.

FOR FURTHER INFORMATION CONTACT: • You may contact Rená Cutlip-Mason, Chief, Humanitarian Affairs Division, Office of Policy and Strategy, U.S. Citizenship and Immigration Services, U.S. Department of Homeland Security, by mail at 5900 Capital Gateway Drive, Camp Springs, MD 20746, or by phone at 800-375-5283.

• For further information on TPS, including guidance on the registration and re-registration process and additional information on eligibility, please visit the USCIS TPS web page at https://www.uscis.gov/tps. You can find specific information about this extension of South Sudan's TPS designation by selecting “South Sudan” from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at https://www.uscis.gov, or visit the USCIS Contact Center at uscis.gov/contactcenter.

• Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Through this notice, DHS sets forth procedures necessary for eligible nationals of South Sudan (or individuals having no nationality who last habitually resided in South Sudan) to (1) re-register for TPS and to apply for renewal of their EADs with USCIS or (2) submit an initial registration application under the redesignation and apply for an EAD.

Re-registration is limited to individuals who have previously registered for TPS under a prior designation of South Sudan and whose applications have been granted. Failure to re-register properly may result in the withdrawal of your TPS following appropriate procedures. See 8 CFR 244.14.

For individuals who have already been granted TPS under South Sudan's designation, the 60-day re-registration period runs from March 3, 2022, through May 2, 2022. USCIS will issue new EADs with a November 3, 2023, expiration date to eligible South Sudanese TPS beneficiaries who timely re-register and apply for EADs. Given the time frames involved with processing TPS re-registration applications, DHS recognizes that not all re-registrants may receive new EADs before their current EADs expire on May 2, 2022. Accordingly, through this Federal Register notice, DHS automatically extends the validity of EADs previously issued under the TPS designation of South Sudan for 180 days, through November 1, 2022. Therefore, TPS beneficiaries can show their EADs with: (1) A May 2, 2022, expiration date on the face of the card and (2) an A-12 or C-19 category code as proof of continued employment authorization through November 1, 2022. This notice explains how TPS beneficiaries and their employers may determine which EADs are automatically extended and how this affects the Form I-9, Employment Eligibility Verification, E-Verify, and USCIS Systematic Alien Verification for Entitlements (SAVE) processes.

Individuals who have a South Sudan TPS application (Form I-821) and/or Application for Employment Authorization (Form I-765) that was still pending as of March 3, 2022, do not need to file either application again. If USCIS approves an individual's Form I-821, USCIS will grant the individual TPS through November 3, 2023. Similarly, if USCIS approves a pending TPS-related Form I-765, USCIS will issue the individual a new EAD that will be valid through the same date. There are currently approximately 97 beneficiaries under South Sudan's TPS designation.

Under the redesignation, individuals who currently do not have TPS may submit an initial application during the initial registration period that runs from March 3, 2022, and runs through the full length of the redesignation period ending November 3, 2023.¹ In addition to demonstrating continuous residence in the United States since March 1, 2022 and meeting other eligibility criteria, initial applicants for TPS under this redesignation must demonstrate that they have been continuously physically present in the United States since March 3, 2022, the effective date of this redesignation of South Sudan, before USCIS may grant them TPS. The DHS Office of Immigration Statistics has estimated that approximately 235 individuals may become newly eligible for TPS under the redesignation of South Sudan.

¹ In general, individuals must be given an initial registration period of no less than 180 days to register for TPS, but the Secretary has discretion to provide for a longer registration period. See 8 U.S.C. 1254a(c)(1)(A)(iv). Historically, the length of the initial registration period has varied. Compare 66 FR 14214 (March 9, 2001) (18 months initial registration period for applicants under TPS designation for El Salvador) with 80 FR 36346 (June 24, 2015) (180-day initial registration period for applicants under TPS designation for Nepal). In recent years, this period has generally been limited to the statutory minimum of 180 days, although later extensions of the initial registration period have also been announced for some countries. See, e.g., 81 FR 4051 (Jan. 25, 2016) (setting 180-day initial registration period during extension and redesignation of South Sudan for TPS); 78 FR 1866 (Jan. 9, 2013) (setting 180-day initial registration period during extension and redesignation of Sudan for TPS); 75 FR 39957 (July 13, 2010) (extension of previously announced initial 180-day registration period for Haiti TPS applicants to allow more time for individuals to apply). After evaluating whether to limit the initial registration period for TPS under this new designation of South Sudan to the statutory minimum of 180 days, DHS has determined that it will provide the full 18 months of this designation for applicants to file their initial registration Form I-821 and, if desired, Form I-765 to obtain employment authorization documentation. Limiting the initial registration period to 180 days may place a burden on applicants who may be otherwise eligible for TPS. In addition, permitting registration throughout the entirety of the designation period could reduce the operational burden on USCIS, as incoming applications may be spread out over a longer period of time. This extended registration period is both in keeping with the humanitarian purpose of TPS and will better advance the goal of ensuring “the Federal Government eliminates sources of fear and other barriers that prevent immigrants from accessing government services available to them.” See Executive Order 14012, Restoring Faith in Our Legal Immigration Systems and Strengthening Integration and Inclusion Efforts for New Americans, 86 FR 8277 (Feb. 5, 2021).

What is temporary protected status (TPS)?

• TPS is a temporary immigration status granted to eligible nationals of a country designated for TPS under the INA, or to eligible individuals without nationality who last habitually resided in the designated country.

• During the TPS designation period, TPS beneficiaries are eligible to remain in the United States, may not be removed, and are authorized to obtain EADs so long as they continue to meet the requirements of TPS.

• TPS beneficiaries may also apply for and be granted travel authorization as a matter of discretion. Upon return from such authorized travel, TPS beneficiaries retain the same immigration status they had prior to the travel.

• To qualify for TPS, beneficiaries must meet the eligibility standards at INA section 244(c)(1)-(2), 8 U.S.C. 1254a(c)(1)-(2).

• When the Secretary terminates a country's TPS designation, beneficiaries return to one of the following:

○ The same immigration status or category that they maintained before TPS, if any (unless that status or category has since expired or been terminated); or

○ Any other lawfully obtained immigration status or category they received while registered for TPS, as long as it is still valid beyond the date TPS terminates.

When was South Sudan designated for TPS?

South Sudan was initially designated on October 13, 2011, on the dual bases of ongoing armed conflict and extraordinary and temporary conditions in South Sudan that prevented nationals of South Sudan from safely returning. See Designation of Republic of South Sudan for Temporary Protected Status, 76 FR 63629 (Oct. 13, 2011). Following the initial designation, the Secretary extended and redesignated South Sudan for TPS in 2013, 2014, and 2016. See Extension and Redesignation of South Sudan for Temporary Protected Status, 78 FR 1866 (Jan. 9, 2013); Extension and Redesignation of South Sudan for Temporary Protected Status, 79 FR 52019 (Sept. 2, 2014); Extension and Redesignation of South Sudan for Temporary Protected Status, 81 FR 4051 (Jan. 25, 2016). In 2017 and 2019, DHS extended TPS for South Sudan, based on ongoing armed conflict and extraordinary and temporary conditions. See Extension of South Sudan for Temporary Protected Status, 82 FR 44205 (Sept. 21, 2017); Extension of the Designation of South Sudan for Temporary Protected Status, 84 FR 13688 (Apr. 5, 2019). Most recently, in 2020, DHS extended South Sudan's TPS designation for 18 months, based on ongoing armed conflict and extraordinary and temporary conditions. See Extension of the Designation of South Sudan for Temporary Protected Status, 85 FR 69344 (Nov. 2, 2020).

What authority does the Secretary have to extend the designation of South Sudan for TPS?

Section 244(b)(1) of the INA, 8 U.S.C. 1254a(b)(1), authorizes the Secretary, after consultation with appropriate agencies of the U.S. Government (Government), to designate a foreign state (or part thereof) for TPS if the Secretary determines that certain country conditions exist.² The decision to designate any foreign state (or part thereof) is a discretionary decision, and the TPS statute states that there is no judicial review of any determination with respect to the designation, extension, or termination of a designation.³ The Secretary, in their discretion, may then grant TPS to eligible nationals of that foreign state (or individuals having no nationality who last habitually resided in the designated country). See INA section 244(a)(1)(A), 8 U.S.C. 1254a(a)(1)(A).

² As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

³ See INA, section 244(b)(5)(A). This issue of judicial review is the subject of litigation. See, e.g., Ramos v. Wolf, 975 F.3d 872 (9th Cir. 2020), petition for en banc rehearing filed Nov. 30, 2020 (No. 18-16981); Saget v. Trump, 375 F. Supp. 3d 280 (E.D.N.Y. 2019).

At least 60 days before the expiration of a country's TPS designation or extension, the Secretary, after consultation with appropriate Government agencies, must review the conditions in the foreign state designated for TPS to determine whether the conditions for the TPS designation continue to be met. See INA section 244(b)(3)(A), 8 U.S.C. 1254a(b)(3)(A). If the Secretary does not determine that the foreign state no longer meets the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

What is the Secretary's authority to redesignate South Sudan for TPS?

In addition to extending an existing TPS designation, the Secretary, after consultation with appropriate Government agencies, may redesignate a country (or part thereof) for TPS. See section 244(b)(1) of the Act, 8 U.S.C. 1254a(b)(1); see also section 244(c)(1)(A)(i) of the Act, 8 U.S.C. 1254a(c)(1)(A)(i) (requiring that “the alien has been continuously physically present since the effective date of the most recent designation of the state”) (emphasis added).⁴

⁴ The extension and redesignation of TPS for South Sudan is one of several instances in which the Secretary and, prior to the establishment of DHS, the Attorney General, have simultaneously extended a country's TPS designation and redesignated the country for TPS. See, e.g., 76 FR 29000 (May 19, 2011) (extension and redesignation for Haiti); 69 FR 60168 (Oct. 7, 2004) (extension and redesignation for Sudan); 62 FR 16608 (Apr. 7, 1997) (extension and redesignation for Liberia).

When the Secretary designates or redesignates a country for TPS, the Secretary also has the discretion to establish the date from which TPS applicants must demonstrate that they have been “continuously resid[ing]” in the United States. See section 244(c)(1)(A)(ii) of the Act, 8 U.S.C. 1254a(c)(1)(A)(ii). The Secretary has determined that the “continuous residence” date for applicants for TPS under the redesignation of South Sudan shall be March 1, 2022. Initial applicants for TPS under this redesignation must also show they have been “continuously physically present” in the United States since March 3, 2022, which is the effective date of the Secretary's redesignation, of South Sudan. See section 244(c)(1)(A)(i) of the Act, 8 U.S.C. 1254a(c)(1)(A)(i). For each initial TPS application filed under the redesignation, the final determination of whether the applicant has met the “continuous physical presence” requirement cannot be made until March 3, 2022. USCIS, however, will issue employment authorization documentation, as appropriate, during the registration period in accordance with 8 CFR 244.5(b).

Why is the Secretary extending the TPS designation for South Sudan and simultaneously redesignating South Sudan for TPS through November 3, 2023?

DHS has reviewed country conditions in South Sudan. Based on the review, including consultation with the Department of State (DOS), the Secretary has determined that an 18-month extension is warranted because the ongoing armed conflict and extraordinary and temporary conditions supporting South Sudan's TPS designation persist. The Secretary has further determined that the conditions support redesignating South Sudan for TPS under section 244(b)(1)(A) and (C) of the Act and is changing the “continuous residence” and “continuous physical presence” dates that applicants must meet to be eligible for TPS. Armed conflict and extraordinary and temporary conditions in South Sudan persist. Armed conflict poses a serious threat to the safety of returning nationals in South Sudan. Despite a 2018 ceasefire of South Sudan's civil war, ongoing fighting between the major armed groups continue to result in violence against civilians, including civilian casualties and gender-based violence, in several large areas of the country. Extraordinary and temporary conditions that further prevent South Sudanese nationals from returning in safety include an exceptional level of intercommunal violence, a humanitarian crisis involving severe food insecurity, record-setting flooding, and large-scale displacement of civilians.

Since February 2020, limited implementation of the September 2018 Revitalized Agreement on the Resolution of the Conflict in the Republic of South Sudan (R-ARCSS) ⁵ “has hindered improvements in the protection of civilians and prospects for long-term peace” in South Sudan.⁶ Moreover, ongoing political disputes and disagreements between the two main signatories—the Sudan People's Liberation Movement (SPLM), led by President Salva Kiir Mayardit, and the Sudan People's Liberation Movement-Army in Opposition (SPLM/A-IO), led by the First Vice-President, Riek Machar Teny, “has widened existing political, military and ethnic divisions in the country and has led to multiple incidents of violence” between the two parties.⁷ Political divisions among the non-signatories ⁸ to the R-ARCSS have also not been resolved.⁹ Moreover, the SPLM/A-IO has begun to break apart and new splinter groups have formed,¹⁰ resulting in increased violence.¹¹

⁵ The Revitalized Agreement on the Resolution of the Conflict in the Republic of South Sudan (R-ARCSS) was signed on September 12, 2018 by President Kiir, current First Vice President Riek Machar Teny, and other representatives of certain opposition groups. A prior peace agreement was signed in 2015 and a unity government was formed; however, fighting ensued between the parties in July 2016 and Machar left South Sudan shortly thereafter. The R-ARCSS addresses various political, security, and transitional justice issues, including the establishment of a unity government. However, not all of South Sudan's opposition leaders signed the agreement, including a key opposition group, the National Salvation Front (NAS). South Sudan Security Situation, EASO, April 24, 2020, pg. 3, available at: https://www.ecoi.net/en/file/local/2028851/2020_04_Q8_COI_South_Sudan_Security_Situation.pdf.

⁶ Panel of Experts on South Sudan, United Nations (UN) Security Council, April 15, 2021, pg. 2, available at: https://reliefweb.int/report/south-sudan/final-report-panel-experts-south-sudan-submitted-pursuant-resolution-2521-2020.

⁷ Panel of Experts on South Sudan, UN Security Council, April 15, 2021, pg. 2, available at: https://reliefweb.int/report/south-sudan/final-report-panel-experts-south-sudan-submitted-pursuant-resolution-2521-2020.

⁸ Previously united under one umbrella group—the South Sudan Opposition Movements Alliance—non-signatories of the R-ARCSS have divided into two factions, one led by General Thomas Cirillo Swaka, the leader of the National Salvation Front (“NAS”), and another led by General Pagan Amum and General Paul Malong Awan Anei. Panel of Experts on South Sudan, UN Security Council, April 15 2021, pg. 9, available at: https://reliefweb.int/report/south-sudan/final-report-panel-experts-south-sudan-submitted-pursuant-resolution-2521-2020.

⁹ Panel of Experts on South Sudan, UN Security Council, April 15, 2021, pg. 9, available at: https://reliefweb.int/report/south-sudan/final-report-panel-experts-south-sudan-submitted-pursuant-resolution-2521-2020.

¹⁰ See id.

¹¹ SURFACE TENSION: `COMMUNAL' VIOLENCE AND ELITE AMBITIONS IN SOUTH SUDAN, ACLED, August 19, 2021, available at: https://acleddata.com/2021/08/19/surface-tension-communal-violence-and-elite-ambitions-in-south-sudan/.

Thus, South Sudan faces increasing violence ¹² from both government security forces and armed groups.¹³ In 2020, the United Nations (UN) and international organizations reported on “widespread killings, mutilations, and sexual violence, disproportionately committed by government forces but also by the National Salvation Front ¹⁴ (NAS), a key opposition group.” ¹⁵ In March 2021, the UN Commission on Human Rights in South Sudan noted that armed clashes at the local level also resulted in the mass displacement of the civilian population, particularly women and girls.¹⁶ Children are among those feeling the greatest impact of this violence, which—along with other factors—is exposing them to protection risks and life-threatening diseases.¹⁷ Moreover, sexual violence—including rape, gang rape, abduction, sexual slavery, and sexual mutilation remain “consistent features of the conflict in South Sudan since 2013, and are now being replicated in conflict at the local level.” ¹⁸

¹² See id.

¹³ Panel of Experts on South Sudan, UN Security Council, April 15, 2021, pg. 15, available at: https://reliefweb.int/report/south-sudan/final-report-panel-experts-south-sudan-submitted-pursuant-resolution-2521-2020.

¹⁴ The opposition group NAS is led by General Thomas Cirillo Swaka, and has maintained a significant security presence and support in Central Equatoria. NAS is not a signatory to the R-ARCSS, maintaining that the root causes of the conflict in South Sudan have not been addressed in the peace agreement. See Final report of the Panel of Experts on South Sudan, UN Security Council, April 28, 2020, pg. 16, available at: https://reliefweb.int/report/south-sudan/final-report-panel-experts-south-sudan-submitted-pursuant-resolution-2521-2020.

¹⁵ 2020 Country Reports on Human Rights Practices: South Sudan, U.S. Department of State, March 31, 2021, section 1, available at: https://www.state.gov/reports/2020-country-reports-on-human-rights-practices/south-sudan/.

¹⁶ Report of the Commission on Human Rights in South Sudan, UN Human Rights Council, February 4, 2021, pg. 14, available at: https://www.ecoi.net/en/file/local/2046934/A_HRC_46_53_E.pdf.

¹⁷ South Sudan Humanitarian Situation Report, UN Children's Fund (UNICEF), December 30, 2021, pg. 2, available at: https://reliefweb.int/report/south-sudan/unicef-south-sudan-humanitarian-situation-report-no-163-1-30-november-2021.

¹⁸ Report of the Commission on Human Rights in South Sudan, UN Human Rights Council, February 4, 2021, pg. 14; available at: https://www.ecoi.net/en/file/local/2046934/A_HRC_46_53_E.pdf.

Humanitarian organizations in South Sudan continue to face security and bureaucratic barriers that affect the delivery of and access to humanitarian aid and pose “serious personal risks to aid workers.” ¹⁹

¹⁹ Panel of Experts on South Sudan, UN Security Council, April 15, 2021, pg. 16, available at: https://reliefweb.int/report/south-sudan/final-report-panel-experts-south-sudan-submitted-pursuant-resolution-2521-2020.

Moreover, in 2021, “widespread flooding, ongoing violence, and subsequent displacement continued to deepen humanitarian needs in South Sudan.” ²⁰ As a result, South Sudan is also facing “one of the direst food crises the country has faced since its independence in 2011.” ²¹ Chronic food shortages, a deepening economic crisis, insecurity, and limited agricultural production have led to high levels of acute malnutrition.²² South Sudan's health care infrastructure also remains inadequate.²³ Facilities are limited, often inaccessible, and facing staffing shortages amongst ongoing insecurity and violence.²⁴

²⁰ Situation in South Sudan; Report of the Secretary-General, UN Security Council, December 7, 2021 pg. 5, available at: https://www.ecoi.net/en/file/local/2065323/S_2021_1015_E.pdf.

²¹ Panel of Experts on South Sudan, UN Security Council, April 15, 2021, pg. 15, available at: https://reliefweb.int/report/south-sudan/final-report-panel-experts-south-sudan-submitted-pursuant-resolution-2521-2020.

²² South Sudan Humanitarian Fund Annual Report 2020, UN Office for the Coordination of Humanitarian Affairs (UNOCHA), July 6, 2021, pg. 7, available at: https://reliefweb.int/report/south-sudan/south-sudan-humanitarian-fund-annual-report-2020.

²³ South Sudan—Strengthening primary health care in fragile settings, World Health Organization, May 20, 2021, available at: https://www.who.int/news-room/feature-stories/detail/south-sudan-2021.

²⁴ South Sudan—Strengthening primary health care in fragile settings, World Health Organization, May 20, 2021, available at: https://www.who.int/news-room/feature-stories/detail/south-sudan-2021.

Numbers at a Glance

The United States Agency for International Development (USAID) provided the following key statistics for South Sudan in a January 19, 2022 Fact Sheet: ²⁵

²⁵ South Sudan—Crisis, Fact Sheet #2 Fiscal Year 2022, U.S. Agency for International Development (USAID), January 19, 2022, available at: https://reliefweb.int/report/south-sudan/south-sudan-complex-emergency-fact-sheet-2-fiscal-year-fy-2022.

• Number of people in need of Humanitarian Assistance: 8,300,000 ²⁶ (per UN Office for the Coordination of Humanitarian Affairs (UNOCHA) as of March 2021)

²⁶ According to UNOCHA, as of January 2021 the total population of South Sudan is 12.1 million. South Sudan—Crisis, Fact Sheet #2 Fiscal Year 2022, USAID, January 19, 2022, available at: https://reliefweb.int/report/south-sudan/south-sudan-complex-emergency-fact-sheet-2-fiscal-year-fy-2022.

• Number of estimated internally displaced persons (IDPs): 2,000,000 (per UNOCHA as of January 2022)

• Number of people affected by ongoing floods since May 2021: 835,000 (per UNOCHA as of January 2022)

• Estimated number of refugees from South Sudan in neighboring countries: 2,300,000 (per Office of the UN High Commissioner for Refugees (UNHCR) as of November 2021)

Security Situation

In June 2021, the UN reported that “the overall implementation of the R-ARCSS is progressing slowly.” ²⁷ Political gridlock over implementation of the political and security aspects of the R-ARCSS have also contributed to insecurity in South Sudan.²⁸ The UN further assessed that weak or absent State governance has allowed “perennial communal and ethnic cleavages,” while entrenched insecurity contributes to a vicious cycle of livestock raiding and subsequent food insecurity. A weakened rule of law and flagging economic conditions have resulted in increased criminality and the targeting of humanitarian workers.²⁹

²⁷ Marking a Decade of Independence, South Sudan Faces Slow Progress, Lingering Violence, Secretary-General's Special Representative Tells Security Council, UN Security Council, June 22, 2021, available at: https://reliefweb.int/report/south-sudan/marking-decade-independence-south-sudan-faces-slow-progress-lingering-violence.

²⁸ Panel of Experts on South Sudan, UN Security Council, April 15, 2021, pg. 2, available at: https://reliefweb.int/report/south-sudan/final-report-panel-experts-south-sudan-submitted-pursuant-resolution-2521-2020.

²⁹ Marking a Decade of Independence, South Sudan Faces Slow Progress, Lingering Violence, Secretary-General's Special Representative Tells Security Council, UN Security Council, June 22, 2021, available at: https://reliefweb.int/report/south-sudan/marking-decade-independence-south-sudan-faces-slow-progress-lingering-violence.

The lack of adequate financial resources and logistical support for the unification, training, and deployment of the South Sudan armed forces, as outlined in the R-ARCSS, remains a significant security challenge.³⁰ A key component of the R-ARCSS is the long-term garrisoning (cantonment), registration, screening, selection, training and redeployment of opposition forces and the creation of a unified army of 83,000 soldiers. South Sudanese military cantonment sites and training centers ³¹ have made little progress in establishing a unified force, further contributing to a security vacuum in the country.³² Security forces in the few cantonment sites often lack access to basic services, such as food, water, sanitation and health care.³³ In addition, the proliferation and availability of small amounts of ammunition across South Sudan ³⁴ has “enabled armed groups not associated with government security forces, such as local militias and cattle-raiding groups, to perpetuate instability” in the country.³⁵

³⁰ Report of the Commission on Human Rights in South Sudan, UN Human Rights Council, March 4, 2021, pg. 4, available at: https://www.ecoi.net/en/file/local/2046934/A_HRC_46_53_E.pdf.

³¹ Report of the Commission on Human Rights in South Sudan, United Nations General Assembly, January 31, 2020, pg. 6, available at: https://www.ecoi.net/en/file/local/2025863/A_HRC_43_56_E.pdf.

³² Report of the Commission on Human Rights in South Sudan, UN Human Right Council, March 4, 2021, pg. 13, available at: https://www.ecoi.net/en/file/local/2046934/A_HRC_46_53_E.pdf.

³³ Report of the Commission on Human Rights in South Sudan [A/HRC/46/53] UN Human Rights Council, March 4, 2021, pg. 4, available at: https://www.ecoi.net/en/file/local/2046934/A_HRC_46_53_E.pdf.

³⁴ Panel of Experts on South Sudan, UN Security Council, April 15, 2021, pg. 21, available at: https://reliefweb.int/report/south-sudan/final-report-panel-experts-south-sudan-submitted-pursuant-resolution-2521-2020.

³⁵ Panel of Experts on South Sudan, UN Security Council, April 15, 2021, pg. 21, available at: https://reliefweb.int/report/south-sudan/final-report-panel-experts-south-sudan-submitted-pursuant-resolution-2521-2020.

The U.S. Department of State noted in its 2020 Country Reports on Human Rights Practices for South Sudan that:

The United Nations, international cease-fire monitors, human rights organizations, and media reported the government, or its agents, committed numerous arbitrary or unlawful killings. Security forces, opposition forces, armed militias affiliated with the government and the opposition, and ethnically based groups were also responsible for widespread extrajudicial killings.³⁶

³⁶ 2020 Country Reports on Human Rights Practices: South Sudan, U.S. Department of State, March 31, 2021, section 1, available at: https://www.state.gov/reports/2020-country-reports-on-human-rights-practices/south-sudan/.

Moreover, in 2020, ongoing violence in Jonglei and the Greater Pibor Administration Area was “the worst recorded since the outbreak of the national conflict in South Sudan in December 2013, with waves of attacks and reprisals that left hundreds of South Sudanese women, men and children dead, maimed or destitute.” ³⁷ In March 2021, the UN Commission on Human Rights in South Sudan assessed that “gross human rightsviolations and abuses amounting to serious violations of international humanitarian law were committed in the context of localized conflicts by armed militias affiliated to the primary parties in conflict—the South Sudan People's Defence Forces (SSPDF) and the Sudan People's Liberation Movement—In Opposition (SPLA-IO).” ³⁸ These acts included those”:

³⁷ Report of the Commission on Human Rights in South Sudan UN Human Rights Council, March 4, 2021, pg. 7, available at: https://www.ecoi.net/en/file/local/2046934/A_HRC_46_53_E.pdf.

³⁸ Report of the Commission on Human Rights in South Sudan, UN Human Rights Council, March 4, 2021, pg. 9, available at: https://www.ecoi.net/en/file/local/2046934/A_HRC_46_53_E.pdf.

perpetrated against civilians, includ[ing] abductions, forced recruitment (including of children), murder, sexual violence, ill-treatment, looting and the unnecessary destruction of property. Many of these attacks revealed a shocking disregard for civilian lives.³⁹

³⁹ Id.

In 2021, Upper Nile, Warrap, Lakes, Central Equatoria, and Western Equatoria states were particularly affected by violence “resulting in displacement, increased protection risks and rights violations, as well as diminished humanitarian access.” ⁴⁰

⁴⁰ Situation in South Sudan, UN Security Council, September 9, 2021, pg. 4, available at: https://www.ecoi.net/en/file/local/2060682/S_2021_784_E.pdf.

Violence Against Children

Children in South Sudan continued to be victims of what the Office of the Special Representative of the Secretary General for Children and Armed Conflict refers to as “grave violations” against children.⁴¹ According to the UN Security Council's 2021 Children and Armed Conflict in South Sudan report, children were recruited by the SPLM/A-IO and the SSPDF.⁴² In addition, hundreds of girls and boys continue to be abducted.⁴³ Perpetrators of child abduction included the NAS, SPLM/A-IO, and SSPDF.⁴⁴ Child abuse, including sexual abuse, was reportedly also widespread in South Sudan.⁴⁵

⁴¹ To better monitor, prevent, and end these attacks, the United Nations Security Council hasidentified and condemned six grave violations against children in times of war: Killing and maiming of children; recruitment or use of children in armed forces and armed groups; attacks on schools or hospitals; rape or other grave sexual violence; abduction of children; and denial of humanitarian access for children, The Six Grave Violations, Office of the Special Representative of the Secretary General for Children and Armed Conflict, https://childrenandarmedconflict.un.org/six-grave-violations/ (last visited on January 13, 2022).

⁴² Id.

⁴³ Report of the Commission on Human Rights in South Sudan, United Nations General Assembly, February 4, 2021, pg. 7, available at: https://reliefweb.int/report/south-sudan/report-commission-human-rights-south-sudan-ahrc4653.

⁴⁴ Children and armed conflict in South Sudan, United Nations Security Council, May 6, 2021, pg. 21, available at: https://www.un.org/ga/search/view_doc.asp?symbol=S/2021/437&Lang=E&Area=UNDOC.

⁴⁵ 2020 Country Reports on Human Rights Practices: South Sudan, U.S. Department of State, March 31, 2021, section 5, available at: https://www.state.gov/reports/2020-country-reports-on-human-rights-practices/south-sudan/.

Sexual and Gender-Based Violence

Sexual and gender-based violence remains a “hallmark of the conflict in South Sudan.” ⁴⁶ In February 2021, the UN Commission on Human Rights in South Sudan reported that:

⁴⁶ Report of the Commission on Human Rights in South Sudan, UN Human Rights Council, February 4, 2021, pg. 13, https://www.ecoi.net/en/file/local/2046934/A_HRC_46_53_E.pdf.

As of September 2020, South Sudan had seen an estimated 88 percent increase in the number of women victims of conflict-related sexual violence since the previous quarter and a 119 percent rise in the number of abductions since the previous quarter. The upsurge in localized conflict in Central Equatoria (Yei and surrounding areas), Jonglei and the Greater Pibor Administrative Area and Warrap (Tonj West and North) saw women and girls targeted by all sides.⁴⁷

⁴⁷ Id.

In addition, rural communities often abducted women and children during cattle raids.⁴⁸ Girls who are abducted have been reportedly “forced into sexual slavery, tortured and repeatedly gang raped.” ⁴⁹ According to credible reports, perpetrators of forced marriage and sexual violence include security forces, community-based militias, civil defense groups, and other armed groups.⁵⁰

⁴⁸ 2020 Country Reports on Human Rights Practices: South Sudan, U.S. Department of State, March 31, 2021, section 5, available at: https://www.state.gov/reports/2020-country-reports-on-human-rights-practices/south-sudan/.

⁴⁹ Report of the Commission on Human Rights in South Sudan, United Nations General Assembly, February 4, 2021, pg. 7, https://reliefweb.int/report/south-sudan/report-commission-human-rights-south-sudan-ahrc4653.

⁵⁰ UNHCR Position on Returns to South Sudan, UNHCR, October 2021, pg. 7, https://www.refworld.org/pdfid/617676f04.pdf.

Humanitarian Situation

In 2020, continued violence, particularly in Jonglei, Warrap, and the Greater Equatoria region resulted in “sustained mass population displacement, both within the country and into neighboring countries, and high levels of humanitarian and protection needs.” ⁵¹ Insecurity and COVID-related restrictions also further hampered humanitarian organizations' ability to deploy and respond to medical and other emergency needs in the area.⁵²

⁵¹ 2020 Country Reports on Human Rights Practices: South Sudan, U.S. Department of State, March 31, 2021, section 5, available at: https://www.state.gov/reports/2020-country-reports-on-human-rights-practices/south-sudan/.

⁵² South Sudan—Violence, floods, displacement in Jonglei, European Civil Protection and Humanitarian Aid Operations, August 11, 2020, available at: https://reliefweb.int/report/south-sudan/south-sudan-violence-floods-displacement-jonglei-dg-echo-ocha-media-echo-daily.

In January 2021, UNOCHA assessed that “more people in South Sudan than ever are in need of humanitarian assistance,” resulting in an “estimated 8.5 million people, over two thirds of the population, in need of humanitarian assistance, compared to 7.5 million in 2020 and 7.1 million in 2019.” ⁵³ South Sudan is also facing high levels of food insecurity and violence, coupled with flooding and the impact of the COVID-19 pandemic.⁵⁴

⁵³ Panel of Experts on South Sudan, UN Security Council, April 15, 2021, pg. 16, https://reliefweb.int/report/south-sudan/final-report-panel-experts-south-sudan-submitted-pursuant-resolution-2521-2020.

⁵⁴ Situation in South Sudan, UN Security Council, September 9, 2021, pg. 6, https://www.ecoi.net/en/file/local/2060682/S_2021_784_E.pdf.

Displacement

Civilians faced significant conflict-related forced displacement in South Sudan.⁵⁵ In August 2020, UNOCHA estimated that since February 2020, 157,000 people had been displaced in several counties in Jonglei state, as a result of the ongoing violence and revenge attacks among the warring parties.⁵⁶ In 2021, fighting between armed forces, ongoing violence, and cattle raids in Central and Western Equatoria, Jonglei, the Greater Pibor Administrative Area and Upper Nile states “uprooted people and disrupted humanitarian activities.” ⁵⁷ In Western Equatoria, an estimated 80,000 people were displaced in Tambura country.⁵⁸ In early July 2021, fighting in Warrap state displaced around 10,000 people and left hundreds without any shelter.⁵⁹ In Upper Nile, in August 2021, fighting among factions of SPLM/A-IO displaced some 2,000 people.⁶⁰

⁵⁵ Panel of Experts on South Sudan, UN Security Council, April 15, 2021, pg. 25, https://reliefweb.int/report/south-sudan/final-report-panel-experts-south-sudan-submitted-pursuant-resolution-2521-2020.

⁵⁶ South Sudan—Violence, floods, displacement in Jonglei, European Civil Protection and Humanitarian Aid Operations, August 11, 2020, https://reliefweb.int/report/south-sudan/south-sudan-violence-floods-displacement-jonglei-dg-echo-ocha-media-echo-daily.

⁵⁷ Situation in South Sudan, UN Security Council, September 9, 2021, pg. 6-7, https://www.ecoi.net/en/file/local/2060682/S_2021_784_E.pdf.

⁵⁸ Situation in South Sudan; Report of the Secretary-General, UN Security Council, December 7, 2021, pg. 5, https://www.ecoi.net/en/file/local/2065323/S_2021_1015_E.pdf.

⁵⁹ Situation in South Sudan, UN Security Council, September 9, 2021, pg. 6, https://www.ecoi.net/en/file/local/2060682/S_2021_784_E.pdf.

⁶⁰ Id. at pg. 7.

Food Insecurity ⁶¹ and Floods

⁶¹ According to the Food and Agriculture Organization of the United Nations (FAO), the lack of “regular access to enough safe and nutritious food for normal growth and development and an active and healthy life. This may be due to unavailability of food and/or lack of resources to obtain food. Food insecurity can be experienced at different levels of severity.” Hunger and food security, Food and Agriculture Organization of the United Nations (FAO), https://www.fao.org/hunger/glossary (last visited January 13, 2022).

South Sudan remains one of the most food-insecure countries in the world.⁶² The overall food security situation deteriorated towards the end of 2020.⁶³ Between April and July 2021, an estimated 7.2 million people, 60 percent of the population, faced high levels of acute food insecurity.⁶⁴ Malnutrition in particular remains a pressing issue in South Sudan, with approximately 1.9 million women and children acutely malnourished.⁶⁵ Malnutrition levels among children under five years of age are above emergency thresholds in many parts of the country, and 1.4 million children are estimated to be acutely malnourished.⁶⁶ The main factors driving food insecurity and malnourishment are the ongoing conflicts, flooding, and COVID-19.⁶⁷ Moreover, COVID-19 mitigation efforts also disrupted access to supply chains for commercial and humanitarian assistance, further contributing to food insecurity.⁶⁸

⁶² South Sudan Humanitarian Fund Annual Report 2020, UNOCHA, July 6, 2021, pg. 7, available at https://reliefweb.int/report/south-sudan/south-sudan-humanitarian-fund-annual-report-2020.

⁶³ South Sudan Humanitarian Fund Annual Report 2020, UNOCHA, July 6, 2021, pg. 7, available at https://reliefweb.int/report/south-sudan/south-sudan-humanitarian-fund-annual-report-2020.

⁶⁴ Situation in South Sudan, UN Security Council, September 9, 2021, pg. 6, available at https://www.ecoi.net/en/file/local/2060682/S_2021_784_E.pdf.

⁶⁵ South Sudan Situation Report, World Food Programme, October 29, 2021, pg.1, available at https://reliefweb.int/report/south-sudan/wfp-south-sudan-situation-report-296-29-october-2021.

⁶⁶ Situation in South Sudan, UN Security Council, September 9, 2021, pg. 6, available at https://www.ecoi.net/en/file/local/2060682/S_2021_784_E.pdf.

⁶⁷ South Sudan Humanitarian Fund Annual Report 2020, UNOCHA, July 6, 2021, pg. 7, available at https://reliefweb.int/report/south-sudan/south-sudan-humanitarian-fund-annual-report-2020.

⁶⁸ Id.

In October 2021, the World Food Programme (WFP) reported that South Sudan faced a third year of unprecedented flooding.⁶⁹ The flooding was exacerbated by standing water from major floods in the previous two years, most of which had not fully receded.⁷⁰ The most recent flooding has led to “widespread displacement, destruction of livelihoods and contamination of water sources, compounding existing insecurity issues in many regions.” ⁷¹ In its December 2021 report, UNOCHA reported that the number of people affected by floods since May 2021 was 835,000,⁷² up from the 380,000 reported in August 2021.⁷³ In its February 2021 report, the UN Commission on Human Rights in South Sudan reported that “since the onset of the floods in July 2020, more than one million South Sudanese have been affected by the flooding and more than 856,000 people were displaced and forced to seek refuge on higher ground.” ⁷⁴ The Commission further noted that:

⁶⁹ South Sudan Situation Report, World Food Programme, October 29, 2021, pg.1, available at https://reliefweb.int/report/south-sudan/wfp-south-sudan-situation-report-296-29-october-2021.

⁷⁰ South Sudan Situation Report, REACH, December 2021, pg. 2, available at https://reliefweb.int/report/south-sudan/south-sudan-flooding-trends-counties-particular-concern-food-insecurity-december.

⁷¹ Id. at pg. 1.

⁷² South Sudan Situation Report, UNOCHA, December 2021, pg. 1, available at https://reliefweb.int/report/south-sudan/south-sudan-humanitarian-snapshot-december-2021.

⁷³ South Sudan Humanitarian Snapshot, UNOCHA, August 2021, pg. 1, available at https://reliefweb.int/report/south-sudan/south-sudan-humanitarian-snapshot-august-2021.

⁷⁴ Report of the Commission on Human Rights in South Sudan, United Nations General Assembly, February 4, 2021, pg. 10, available at https://reliefweb.int/report/south-sudan/report-commission-human-rights-south-sudan-ahrc4653.

The floods also destroyed hectares of crops and led to the loss of livestock indispensable to the survival of local populations. Moreover, vital water sources became heavily contaminated, rendering vulnerable communities unable to flee at severe risk of contracting life-threatening waterborne diseases, including typhoid and cholera.⁷⁵

⁷⁵ Report of the Commission on Human Rights in South Sudan, United Nations General Assembly, February 4, 2021, pg. 11, available at https://reliefweb.int/report/south-sudan/report-commission-human-rights-south-sudan-ahrc4653.1.

Access to Humanitarian Assistance

Insecurity continued to affect access to humanitarian assistance, particularly in parts of Central and Western Equatoria, Jonglei, and the Greater Pibor Administrative Area.⁷⁶ In addition, in 2021 humanitarian workers and facilities continued to be targeted and at risk of attack,⁷⁷ resulting in the disruption and suspension of humanitarian action.⁷⁸ In December 2021, the UN assessed that between September and November 2021, “89 humanitarian access incidents were reported, including 13 ambushes and 5 lootings, a 47 percent increase compared with the previous reporting period [published in June 2021].” ⁷⁹ In Western Equatoria, health facilities were looted and destroyed; since the beginning of 2021, more than 911 metric tons of food items and nutritional supplements have been looted or destroyed.⁸⁰ Moreover, recurring violence in Jonglei and Greater Pibor Administrative Area affected the delivery of critical humanitarian assistance to highly food-insecure people.⁸¹ In addition, poor road conditions, compounded by heavy rain and ongoing floods, have led to access challenges and slowed the response in the flood-affected areas.⁸² The government of South Sudan also has limited access to humanitarian aid by establishing:

⁷⁶ Situation in South Sudan, UN Security Council, September 9, 2021, pg. 7, available at https://www.ecoi.net/en/file/local/2060682/S_2021_784_E.pdf.

⁷⁷ Situation in South Sudan, UN Security Council, September 9, 2021, pg. 7, available at https://www.ecoi.net/en/file/local/2060682/S_2021_784_E.pdf.

⁷⁸ Situation in South Sudan; Report of the Secretary-General, UN Security Council, December 7, 2021, pg. 7, available at https://www.ecoi.net/en/file/local/2065323/S_2021_1015_E.pdf.

⁷⁹ Situation in South Sudan; Report of the Secretary-General, UN Security Council, December 7, 2021, pg. 5-6, available at https://www.ecoi.net/en/file/local/2065323/S_2021_1015_E.pdf.

⁸⁰ Situation in South Sudan, UN Security Council, September 9, 2021. pg. 7, available at https://www.ecoi.net/en/file/local/2060682/S_2021_784_E.pdf.

⁸¹ Situation in South Sudan, UN Security Council, September 9, 2021, pg. 6-7, available at https://www.ecoi.net/en/file/local/2060682/S_2021_784_E.pdf.

⁸² Situation in South Sudan; Report of the Secretary-General [S/2021/1015], UN Security Council, December 7, 2021, pg. 5-6, available at https://www.ecoi.net/en/file/local/2065323/S_2021_1015_E.pdf.

an intentionally complex bureaucratic system for the delivery of aid and has failed to guarantee the safe delivery of humanitarian aid. In particular, multiple sources raised serious concerns about the Government's deliberate policy of denying or delaying the issuance of visas for hundreds of international humanitarian staff who had been evacuated from South Sudan owing to COVID-19.⁸³

⁸³ Panel of Experts on South Sudan, UN Security Council, April 15, 2021, pg. 16-17, available at https://reliefweb.int/report/south-sudan/final-report-panel-experts-south-sudan-submitted-pursuant-resolution-2521-2020.

Healthcare and COVID-19

In August 2020, UNHCR reported that “about 56 percent of South Sudan's population does not have access to primary healthcare services.” ⁸⁴ In addition, less than 2 percent of South Sudan's national budget is spent on healthcare,⁸⁵ resulting in poorly equipped health facilities with limited staff.⁸⁶ In January 2021, UNOCHA reported that “out of approximately 2,300 health facilities, more than 1,300 are non-functional. Of the functioning health facilities, 57 percent are supported by humanitarian and development partners and many remain in areas that are not easily accessible by the communities.” ⁸⁷ South Sudan also continues to face “regular outbreaks of infectious diseases like measles, water-borne diseases such as diarrhea and Hepatitis E virus, and vector-borne diseases like malaria and yellow fever,” in addition to the impact of the COVID-19 pandemic.⁸⁸ According to the WFP, the “COVID-19 pandemic continues to present serious risks to an already fragile situation, threatening to further exacerbate acute food insecurity.” ⁸⁹ As of January 3, 2022, 16,607 people had contracted COVID-19, including 136 associated deaths.⁹⁰

⁸⁴ Renewed violence and delayed implementation of the peace agreement severely threaten peace and stability in South Sudan, UN experts note, UNHCR, August 14, 2020, available at https://www.ecoi.net/en/document/2036539.html.

⁸⁵ South Sudan—Strengthening primary health care in fragile settings, World Health Organization, May 20, 2021, available at https://www.who.int/news-room/feature-stories/detail/south-sudan-2021.

⁸⁶ South Sudan Humanitarian Needs Overview 2021 (January 2021), UNOCHA, January 2021, pg. 12, available at https://www.ecoi.net/en/file/local/2045425/south_sudan_2021_humanitarian_needs_overview.pdf.

⁸⁷ South Sudan Humanitarian Needs Overview 2021 (January 2021), UNOCHA, January 2021, pg. 12, available at https://www.ecoi.net/en/file/local/2045425/south_sudan_2021_humanitarian_needs_overview.pdf.

⁸⁸ Strengthening public health surveillance and response using the third Edition Integrated Disease Surveillance and Response guidelines in South Sudan, World Health Organization, November 27, 2021, available at https://reliefweb.int/report/south-sudan/strengthening-public-health-surveillance-and-response-using-third-edition.

⁸⁹ South Sudan Country Brief, World Food Programme, November 2021, pg. 1, available at https://reliefweb.int/report/south-sudan/wfp-south-sudan-country-brief-november-2021.

⁹⁰ South Sudan COVID-19 Dashboard, World Health Organization, https://covid19.who.int/region/emro/country/sd (last visited on January 19, 2022).

Economic Situation

According to the World Bank, South Sudan is facing “concurrent setbacks in the economy” due to rising poverty, food insecurity and a resurgence of conflict.⁹¹ Moreover, falling global oil prices have also affected South Sudan's oil revenues.⁹² South Sudan's economy is heavily oil-dependent, with oil accounting for 90 percent of government revenue and nearly all exports.⁹³ This situation has caused a “great percentage of South Sudanese people to lose their sources of livelihood and has left some communities facing catastrophic needs.” ⁹⁴ Moreover, urgent and essentials measures to manage the COVID-19 pandemic, “worsened economic conditions, disrupting livelihoods and affecting vulnerable households' access to markets, food and adequate income.” ⁹⁵

⁹¹ South Sudan Economic Update, June 2021: Pathways to Sustainable Food Security, The World Bank, July 2, 2021, available at https://reliefweb.int/report/south-sudan/south-sudan-economic-update-june-2021-pathways-sustainable-food-security.

⁹² South Sudan Economic Update, June 2021: Pathways to Sustainable Food Security, The World Bank, July 2, 2021, available at https://reliefweb.int/report/south-sudan/south-sudan-economic-update-june-2021-pathways-sustainable-food-security.

⁹³ South Sudan Humanitarian Needs Overview 2021 (January 2021), UNOCHA, January 2021, pg. 12, available at https://www.ecoi.net/en/file/local/2045425/south_sudan_2021_humanitarian_needs_overview.pdf.

⁹⁴ South Sudan Economic Update, June 2021: Pathways to Sustainable Food Security, The World Bank, July 2, 2021, available at https://reliefweb.int/report/south-sudan/south-sudan-economic-update-june-2021-pathways-sustainable-food-security.

⁹⁵ South Sudan Humanitarian Response Plan, FAO, May 2021, pg. 2, available at https://reliefweb.int/report/south-sudan/south-sudan-humanitarian-response-plan-2021.

Based upon this review and after consultation with appropriate U.S. Government agencies, the Secretary has determined that:

• The conditions supporting South Sudan's designation for TPS continue to be met. See INA section 244(b)(3)(A) and (C), 8 U.S.C. 1254a(b)(3)(A) and (C).

• There continues to be an ongoing armed conflict in South Sudan and, due to such conflict, requiring the return to South Sudan of South Sudanese nationals (or individuals having no nationality who last habitually resided in South Sudan) would pose a serious threat to their personal safety. See INA section 244(b)(1)(A), 8 U.S.C. 1254a(b)(1)(A).

• There continue to be extraordinary and temporary conditions in South Sudan that prevent South Sudanese nationals (or individuals having no nationality who last habitually resided in South Sudan) from returning to South Sudan in safety, and it is not contrary to the national interest of the United States to permit South Sudanese TPS beneficiaries to remain in the United States temporarily. See INA section 244(b)(1)(C), 8 U.S.C. 1254a(b)(1)(C).

• The designation of South Sudan for TPS should be extended for an 18-month period, from May 3, 2022, through November 3, 2023. See INA section 244(b)(3)(C), 8 U.S.C. 1254a(b)(3)(C).

• Due to the conditions described above, South Sudan should be simultaneously extended and redesignated for TPS effective May 3, 2022, through November 3, 2023. See section 244(b)(1)(A) and (C) and (b)(2) of the Act, 8 U.S.C. 1254a(b)(1)(A) and (C) and (b)(2).

• For the redesignation, the Secretary has determined that TPS applicants must demonstrate that they have continuously resided in the United States since March 1, 2022.

• Initial TPS applicants under the redesignation must demonstrate that they have been continuously physically present in the United States since March 3, 2022, the effective date of the redesignation of South Sudan for TPS.

• There are approximately 97 current South Sudanese TPS beneficiaries who are expected to be eligible to re-register for TPS under the extension.

• It is estimated that approximately 235 additional individuals may be eligible for TPS under the redesignation of South Sudan. This population includes South Sudanese nationals in the United States in nonimmigrant status or without immigration status.

Notice of Extension of the TPS Designation and Redesignation of South Sudan for TPS

By the authority vested in me as Secretary under INA section 244, 8 U.S.C. 1254a, I have determined, after consultation with the appropriate Government agencies, the conditions supporting South Sudan's designation for TPS continue to be met. See INA section 244(b)(3)(A), 8 U.S.C. 1254a(b)(3)(A). On the basis of this determination, I am simultaneously extending the existing designation of TPS for South Sudan for 18 months, from May 3, 2022, through November 3, 2023, and redesignating South Sudan for TPS for the same 18-month period. See INA section 244(b)(1)(A), (b)(1)(C) and (b)(2); 8 U.S.C. 1254a(b)(1)(A), (b)(1)(C), and (b)(2).

Alejandro N. Mayorkas,
Secretary, U.S. Department of Homeland Security.

Required Application Forms and Application Fees To Register or Re-Register for TPS

To register or re-register for TPS based on the designation of South Sudan, you must submit an Application for Temporary Protected Status (Form I-821). If you are filing an initial application, you must pay the fee for the Form I-821 or request a fee waiver. If you are filing an application for re-registration, you do not need to pay the fee for the Form I-821. There is no Form I-821 fee for re-registration. See 8 CFR 244.17. You may be required to pay the biometric services fee. If you can demonstrate an inability to pay the biometric services fee, you may request to have the fee waived. Please see additional information under the “Biometric Services Fee” section of this notice.

Through this Federal Register notice, your existing EAD issued under the TPS designation of South Sudan with the expiration date of May 2, 2022, is automatically extended for 180 days, through November 1, 2022. If you want to obtain a new EAD valid through November 3, 2023, you must file an Application for Employment Authorization (Form I-765) and pay the Form I-765 fee (or request a fee waiver). If you do not want a new EAD, you do not have to file Form I-765 and pay the Form I-765 fee. If you do not want to request a new EAD now, you may also file Form I-765 at a later date and pay the fee (or request a fee waiver), provided that you still have TPS or a pending TPS application. However, you are strongly encouraged to file your application for a new EAD as early as possible to avoid gaps in the validity of your employment authorization documentation and to ensure that you receive your new EAD by November 1, 2022.

If you are applying for initial registration and want an EAD, you must file and pay the fee for the Form I-765 (or request a fee waiver). If you do not want to request an EAD now, you may also file Form I-765 at a later date and pay the fee (or request a fee waiver), provided that you still have TPS or a pending TPS application. You may file the application for a new EAD either prior to or after your current EAD has expired.

Everyone must provide their employer with documentation showing that they have the legal right to work in the United States. In general, TPS beneficiaries, including those who are not employed, are not required to have an EAD. But they can obtain one and if they work, the EAD is an acceptable document that proves their legal right to work.

If you have a Form I-821 or Form I-765 that was still pending as of March 3, 2022, then you do not need to file either application again. If USCIS approves your pending TPS application, USCIS will grant you TPS through November 3, 2023. Similarly, if USCIS approves your pending TPS-related Form I-765, it will be valid through the same date.

For more information on the application forms and fees for TPS, please visit the USCIS TPS web page at https://www.uscis.gov/tps. Fees for the Form I-821, the Form I-765, and biometric services are also described in 8 CFR 103.7(b)(1)(i).

Biometric Services Fee

Biometrics (such as fingerprints) are required for all applicants 14 years of age and older. Those applicants must generally submit a biometric services fee. As previously stated, if you can demonstrate an inability to pay the biometric services fee, you may be able to have the fee waived. You may request a fee waiver by submitting a Request for Fee Waiver (Form I-912). For more information on the application forms and fees for TPS, please visit the USCIS TPS web page at www.uscis.gov/tps. USCIS may require you to visit an Application Support Center so we can capture your biometrics. For additional information on the USCIS biometrics screening process, please see the USCIS Customer Profile Management Service Privacy Impact Assessment, available at www.dhs.gov/privacy.

Refiling a TPS Initial Registration Application After Receiving Notice That USCIS Did Not Grant the Fee Waiver Request

You should file as soon as possible so USCIS can process your application and issue any EAD promptly, if you requested one. If USCIS denies your fee waiver request related to your initial TPS application, you must refile your Form I-821 for TPS along with the required fees no later than November 3, 2023, to continue seeking initial TPS. If USCIS does not grant your fee waiver request, you may also refile your Form I-765, with fee, either with your Form I-821 or at a later time as long as it is within the period that South Sudan is designated for TPS, if you choose.

Note: Unless USCIS grants a fee waiver, an initial applicant for TPS must pay the Form I-821 filing fee and applicants age 14 or older must also pay the biometric services fee. However, if you decide to wait to request an EAD, you do not have to file the Form I-765 or pay the associated Form I-765 fee (or request a fee waiver) at the time of registration. You may wait to seek an EAD until after USCIS has approved your TPS registration application or at any later date you decide you want to request an EAD as long as TPS for South Sudan continues. To register for TPS, you only need to file the Form I-821 with the $50 filing fee and the biometric services fee, if applicable (or request a fee waiver).

Refiling a TPS Re-Registration Application After Receiving Notice That the Fee Waiver Request Was Not Granted

You should file as soon as possible within the 60-day re-registration period so USCIS can process your application and issue any EAD promptly, if you requested one. Properly filing early will also give you time to refile your application before the deadline, if USCIS does not grant your fee waiver request. If you receive a notice that USCIS did not grant your fee waiver request, and you are unable to refile by the re-registration deadline, you may still refile your Form I-821 with the biometrics fee. USCIS will review this situation to determine whether you established good cause for late TPS re-registration. However, if possible, we urge you to refile within 45 days of the date on any USCIS notice that we did not grant you a fee waiver. See INA section 244(c)(3)(C); 8 U.S.C. 1254a(c)(3)(C); 8 CFR 244.17(b). For more information on good cause for late re-registration, visit the USCIS TPS web page at https://www.uscis.gov/tps. If USCIS does not grant your fee waiver request, you may also refile your Form I-765 with the fee either with your Form I-821 or at a later time, if you choose.

Note: A re-registering TPS beneficiary age 14 and older must pay the biometric services fee (but not the Form I-821 filing fee), or request a fee waiver, when filing a TPS re-registration application. However, if you decide to wait to request an EAD, you do not have to file the Form I-765 or pay the associated Form I-765 fee (or request a fee waiver) at the time of re-registration. You may wait to seek an EAD until after USCIS has approved your TPS re-registration application or at any later date you decide you want to request an EAD. To re-register for TPS, you only need to file the Form I-821 with the biometric services fee, if applicable (or request a fee waiver).

Filing Information

USCIS offers the option to applicants for TPS under South Sudan's designation to file Form I-821 and related requests for EADs online or by mail. When filing a TPS application, applicants can also request an EAD by submitting a completed Form I-765, Application for Employment Authorization, with their Form I-821.

Online filing: Form I-821 and I-765 are available for concurrent filing online.⁹⁶ To file these forms online, you must first create a USCIS online account.⁹⁷ Online filing is not available for applicants requesting a fee waiver. Such applications should be completed by mail.

⁹⁶ Find information about online filing at Forms Available to File Online, https://www.uscis.gov/file-online/forms-available-to-file-online.

⁹⁷ https://myaccount.uscis.gov/users/sign_up.

Mail filing: Mail your application for TPS to the proper address in Table 1.

Table 1—Mailing Addresses

Mail your completed Application for Temporary Protected Status (Form I-821) and Application for Employment Authorization (Form I-765), Request for Fee Waiver (Form I-912) (if applicable) and supporting documentation to the proper address in Table 1.

Table 1—Mailing Addresses
If you would like to send your application by: | Then, mail your application to:
U.S. Postal Service | USCIS, Attn: TPS South Sudan, P.O. Box 6943, Chicago, IL 60680-6943.
FedEx, UPS, or DHL | USCIS, Attn: TPS South Sudan (Box 6943), 131 S Dearborn St. 3rd Floor, Chicago, IL 60603-5517.

If you were granted TPS by an Immigration Judge (IJ) or the Board of Immigration Appeals (BIA) and you wish to request an EAD or are re-registering for the first time following a grant of TPS by an IJ or the BIA, please mail your application to the appropriate mailing address in Table 1. When you are re-registering and requesting an EAD based on an IJ/BIA grant of TPS, please include a copy of the IJ or BIA order granting you TPS with your application. This will help us to verify your grant of TPS and process your application.

Supporting Documents

The filing instructions on the Form I-821 list all the documents needed to establish eligibility for TPS. You may also find information on the acceptable documentation and other requirements for applying or registering for TPS on the USCIS website at www.uscis.gov/tps under “South Sudan.”

Travel

TPS beneficiaries may also apply for and be granted travel authorization as a matter of discretion. You must file an application for advance parole if you wish to travel outside the United States. Advance parole gives you permission to leave the United States and return during a specific period. TPS beneficiaries retain the same immigration status they had prior to the travel. To request advance parole, you must file Form I-131, Application for Travel Document, available at www.uscis.gov/i-131. You may file Form I-131 together with your Form I-821 or separately. When filing the Form I-131, you must:

• Select Item Number 1.d. in Part 2 on the Form I-131; and

• Submit the fee for the Form I-131, or request a fee waiver, which may be submitted on Request for Fee Waiver (Form I-912)

If you are filing Form I-131 together with Form I-821, send your forms to the address listed in Table 1 above. If you are filing Form I-131 separately based on a pending or approved Form I-821, send your form to the address listed in Table 2 below and include a copy of Form I-797 for the approved or pending Form I-821.

Table 2—Mailing Addresses
If you . . . | Mail to . . .
Are filing Form I-131 together with a Form I-821, Application for Temporary Protected Status | U.S. Postal Service (USPS): USCIS, Attn: TPS South Sudan, P.O. Box 6943, Chicago, IL 60680-6943.
| FedEx, UPS, or DHL: USCIS, Attn: TPS South Sudan (Box 6943), 131 S Dearborn St. 3rd Floor, Chicago, IL 60603-5517.
Are filing Form I-131 based on a pending or approved Form I-821 You must include a copy of the receipt notice (Form I-797C) showing we accepted or approved your Form I-821 | U.S. Postal Service (USPS): USCIS, Attn: I-131 TPS, P.O. Box 660167, Dallas, TX 75266-0867. FedEx, UPS, or DHL: USCIS, Attn: I-131 TPS, 2501 S State Hwy. 121 Business, Ste. 400, Lewisville, TX 75067.

General Employment-Related Information for TPS Applicants and Their Employers

How can I obtain information on the status of my TPS application and EAD request?

To get case status information about your TPS application, including the status of an EAD request, you can check Case Status Online at https://www.uscis.gov, or visit the USCIS Contact Center at uscis.gov/contactcenter. If your Form I-765 has been pending for more than 90 days, and you still need assistance, you may ask a question about your case online at egov.uscis.gov/e-request/Intro.do or call the USCIS Contact Center at 800-375-5283 (TTY 800-767-1833).

Am I eligible to receive an automatic 180-day extension of my current EAD through November 1, 2022, using this Federal Register notice?

Yes. Regardless of your country of birth, provided that you currently have a South Sudan TPS-based EAD with an expiration date of September 17, 2021, on the face of the card, bearing the notation A-12 or C-19 under Category, this notice automatically extends your EAD through November 1, 2022. Although this Federal Register notice automatically extends your EAD through November 1, 2022, you must re-register timely for TPS in accordance with the procedures described in this Federal Register notice to maintain your TPS and employment authorization.

When hired, what documentation may I show to my employer as evidence of employment authorization and identity when completing Form I-9?

You can find the Lists of Acceptable Documents on the third page of Form I-9 as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization), or one document from List B (which provides evidence of your identity) together with one document from List C (which provides evidence of employment authorization), or you may present an acceptable receipt for List A, List B, or List C documents as described in the Form I-9 instructions. Employers may not reject a document based on a future expiration date. You can find additional information about Form I-9 on the I-9 Central web page at https://www.uscis.gov/I-9Central.

An EAD is an acceptable document under List A. See the section “How do my employer and I complete Form I-9 using my automatically extended EAD for a new job?” of this Federal Register notice for further information. If your EAD has an expiration date of May 2, 2022, and states A-12 or C-19 under Category, it has been extended automatically by virtue of this Federal Register notice and you may choose to present your EAD to your employer as proof of identity and employment eligibility for Form I-9 through November 1, 2022, unless your TPS has been withdrawn or your request for TPS has been denied.

What documentation may I present to my employer for Form I-9 if I am already employed but my current TPS-related EAD is set to expire?

Even though we have automatically extended your EAD, your employer is required by law to ask you about your continued employment authorization. Your employer may need to re-inspect your automatically extended EAD to check the Card Expires date and Category code if your employer did not keep a copy of your EAD when you initially presented it. Once your employer has reviewed the Card Expiration date and Category code, your employer should update the EAD expiration date in Section 2 of Form I-9. See the section “What updates should my current employer make to Form I-9 if my EAD has been automatically extended?” of this Federal Register notice for further information. You may show this Federal Register notice to your employer to explain what to do for Form I-9 and to show that USCIS has automatically extended your EAD through November 1, 2022, but you are not required to do so. The last day of the automatic EAD extension is November 1, 2022. Before you start work on November 2, 2022, your employer is required by law to reverify your employment authorization on Form I-9. By that time, you must present any document from List A or any document from List C on Form I-9 Lists of Acceptable Documents, or an acceptable List A or List C receipt described in the Form I-9 instructions to reverify employment authorization.

Your employer may not specify which List A or List C document you must present and cannot reject an acceptable receipt.

Can my employer require that I provide any other documentation to prove my status, such as proof of my South Sudanese citizenship or a Form I-797C showing I re-registered for TPS?

No. When completing Form I-9, including reverifying employment authorization, employers must accept any documentation that appears on the Form I-9 Lists of Acceptable Documents that reasonably appears to be genuine and that relates to you, or an acceptable List A, List B, or List C receipt. Employers do not need to reverify List B identity documents. Therefore, employers may not request proof of South Sudanese citizenship or proof of re-registration for TPS when completing Form I-9 for new hires or reverifying the employment authorization of current employees. If you present an EAD that USCIS has automatically extended, employers should accept it as a valid List A document so long as the EAD reasonably appears to be genuine and relates to you. Refer to the Note to Employees section of this Federal Register notice for important information about your rights if your employer rejects lawful documentation, requires additional documentation, or otherwise discriminates against you based on your citizenship or immigration status, or your national origin.

How do my employer and I complete Form I-9 using my automatically extended EAD for a new job?

1. When using an automatically extended EAD to complete Form I-9 for a new job before November 2, 2022, for Section 1, you should:

a. Check “An alien authorized to work until” and enter November 1, 2022, as the “expiration date”; and

b. Enter your Alien Number/USCIS number or A-Number where indicated. (Your EAD or other document from DHS will have your USCIS number or A-Number printed on it; the USCIS number is the same as your A-Number without the A prefix.)

2. For Section 2, employers should:

a. Determine if the EAD is auto-extended by ensuring it is in category A-12 or C-19 and has a Card Expires date of May 2, 2022;

b. Write in the document title;

c. Enter the issuing authority;

d. Provide the document number; and

e. Write November 1, 2022, as the expiration date.

Before the start of work on November 2, 2022, employers must reverify the employee's employment authorization on Form I-9.

What updates should my current employer make to Form I-9 if my EAD has been automatically extended?

If you presented a TPS-related EAD that was valid when you first started your job and USCIS has now automatically extended your EAD, your employer may need to re-inspect your current EAD if they do not have a copy of the EAD on file. Your employer should determine if your EAD is automatically extended by ensuring that it contains Category A-12 or C-19 and has a Card Expires date of May 2, 2022, on the front of the card.

If your employer determines that USCIS has automatically extended your EAD, your employer should update Section 2 of your previously completed Form I-9 as follows:

1. Write EAD EXT and November 1, 2022, as the last day of the automatic extension in the Additional Information field; and

2. Initial and date the correction.

Note: This is not considered a reverification. Employers do not reverify the employee until either the 180-day automatic extension has ended, or the employee presents a new document to show continued employment authorization, whichever is sooner. By November 2, 2022, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter November 1, 2022, as the expiration date for an EAD that has been extended under this Federal Register notice.

If I am an employer enrolled in E-Verify, what do I do when I receive a “Work Authorization Documents Expiring” alert for an automatically extended EAD?

E-Verify automated the verification process for TPS-related EADs that are automatically extended. If you have employees who provided a TPS-related EAD when they first started working for you, you will receive a “Work Authorization Documents Expiring” case alert when the auto-extension period for this EAD is about to expire. Before this employee starts work on November 2, 2022, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. Calls are accepted in English, Spanish, and many other languages. Employees or applicants may also call the IER Worker Hotline at 800-255-7688 (TTY 800-237-2515) for information regarding employment discrimination based upon citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of Tentative Nonconfirmation (TNC) must promptly inform employees of the TNC and give such employees an opportunity to contest the TNC. A TNC case result means that the information entered into E-Verify from an employee's Form I-9 differs from Federal or state government records.

Employers may not terminate, suspend, delay training, withhold or lower pay, or take any adverse action against an employee because of the TNC while the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and on the USCIS and E-Verify websites at https://www.uscis.gov/i-9-central and https://www.e-verify.gov.

Note Regarding Federal, State, and Local Government Agencies (Such as Departments of Motor Vehicles)

For Federal purposes, TPS beneficiaries presenting an automatically extended EAD referenced in this Federal Register notice do not need to show any other document, such as an I-797C Notice of Action or this Federal Register notice, to prove that they qualify for this extension. However, while Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are a TPS beneficiary, show you are authorized to work based on TPS or other status, or that may be used by DHS to determine whether you have TPS or other immigration status. Examples of such documents are:

• Your current EAD with a TPS category code of A-12 or C-19;

• Your Form I-94, Arrival/Departure Record;

• Your Form I-797, Notice of Action, reflecting approval of your Form I-765; or

• Your Form I-797, the notice of approval, for a past or current Form I-821, if you received one from USCIS.

Check with the government agency regarding which document(s) the agency will accept. Some benefit-granting agencies use USCIS' Systematic Alien Verification for Entitlements (SAVE) program to confirm the current immigration status of applicants for public benefits. While SAVE can verify when an individual has TPS, each agency's procedures govern whether they will accept an unexpired EAD, Form I-797, or Form I-94, Arrival/Departure Record. If an agency accepts the type of TPS-related document you are presenting, such as an EAD, the agency should accept your automatically extended EAD, regardless of the country of birth listed on the EAD. It may assist the agency if you:

a. Present the agency with a copy of the relevant Federal Register notice showing the extension of TPS-related documentation in addition to your recent TPS-related document with your A-number, USCIS number or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but, occasionally, verification can be delayed. You can check the status of your SAVE verification by using CaseCheck at save.uscis.gov/casecheck/. CaseCheck is a free service that lets you follow the progress of your SAVE verification case using your date of birth and one immigration identifier number (A-number, USCIS number or Form I-94 number) or Verification Case Number. If an agency has denied your application based solely or in part on a SAVE response, the agency must offer you the opportunity to appeal the decision in accordance with the agency's procedures. If the agency has received and acted upon or will act upon a SAVE verification and you do not believe the SAVE response is correct, the SAVE website, www.uscis.gov/ save, has detailed information on how to make corrections or update your immigration record, make an appointment, or submit a written request to correct records.

[FR Doc. 2022-04573 Filed 3-2-22; 8:45 am]

BILLING CODE 9111-97-P